INTERNATIONAL TRADE COMMISSION

[Investigation No. 337-TA-1399]

Certain Fiber-Optic Connectors, Adapters, Jump Cables, Patch Cords, Products Containing the Same, and Components Thereof; Notice of Institution of Investigation

AGENCY: U.S. International Trade Commission.

ACTION: Notice.

SUMMARY: Notice is hereby given that a complaint was filed with the U.S. International Trade Commission on March 22, 2024, under section 337 of the Tariff Act of 1930, as amended, on behalf of US Conec, Ltd. of Hickory, North Carolina. Supplements to the complaint were filed on April 12, 2024. The complaint alleges violations of section 337 based upon the importation into the United States, the sale for importation, and the sale within the United States after importation of certain fiber-optic connectors, adapters, jump cables, patch cords, products containing the same, and components thereof by reason of the infringement of certain claims of U.S. Patent No. 11,733,466 (“the '466 patent”); U.S. Patent No. 11,808,994 (“the '994 patent”); U.S. Patent No. 11,906,794 (“the '794 patent”); U.S. Patent No. 11,880,075 (“the '075 patent”); U.S. Patent No. 11,385,415 (“the '415 patent”); and U.S. Patent No. 10,495,823 (“the '823 patent”). The complaint further alleges that an industry in the United States exists as required by the applicable Federal Statute. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on April 22, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-3, 6, 7, and 14-17 of the '466 patent; claims 1-7 and 11-13 of the '994 patent; claims 1-3, 5, 6, 9, 12, and 16-18 of the '794 patent; claims 1, 5, 8-10, 12, 15, and 17-21 of the '075 patent; claims 1, 3, 5, and 12-14 of the '415 patent; and claims 1-5 and 8-10 of the '823 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “fiber-optic connectors, fiber-optic adapters, fiber-optic interconnects, fiber-optic cables, fiber-optic patch cables, fiber-optic cords, and fiber-optic patch cords, including any of the foregoing sold under the monikers SN, SN-MT, SN EZ-Flip, and MPO Plus”;

(3) For the purpose of the investigation so instituted, the following are hereby named as parties upon which this notice of investigation shall be served:

(a) The complainant is:

US Conec, Ltd., 1138 25th Street SE, Hickory, NC 28602

(b) The respondents are the following entities alleged to be in violation of section 337, and are the parties upon which the complaint is to be served:

Senko Advance Co., Ltd., 510-0833 2-5-23 Nakagawara, Yokkaichi City, Mie Prefecture, Japan

Senko Advanced Components, Inc., 2 Cabot Road, Suite 103, Hudson, MA 01749

Eaton Corp., 30 Pembroke Road, Dublin 4, Ireland D04 Y0C2

Tripp Lite Holdings, Inc., 10000 Woodward Avenue, Woodridge, IL 60517

FS.com Inc., 380 Centerpoint Boulevard, New Castle, DE 19720

Infinite Electronics, Inc., 17792 Fitch, Irvine, CA 92614

L-com, Inc., 50 High Street, West Mill, Suite 30, North Andover, MA 01845

Sumitomo Electric Industries, Ltd., 4-5-33, Kitahama, Chuo-ku, 541-0041, Osaka, Japan

Sumitomo Electric Lightwave Corp., 201 South Rogers Lane, Suite 100, Raleigh, NC 27610

Sumitomo Electric U.S.A., Inc., 21241 S Western Avenue, Suite 120, Torrance, CA 90501

EZconn Corp., 13F, No. 27-8, Zhongzheng E. Rd., Sec. 2, New Taipei City, 25170 Taiwan

Flexoptix GmbH, Muehltalstr. 153, 64297, Darmstadt, Germany

Changzhou Co-Net Electronic Technology Co., Ltd., 3rd Floor, Building 3, No. 92, Renmin East, Road, Yaoguan Town, Economic, Development Zone, 213161 Changzhou, Jiangsu, China

Shenzhen UnitekFiber Solution Ltd., 8F, Datang Shidai Building, No. 2203, Meilong Road, Longhua District, Shenzhen, Guangdong province, China

Hubbell Inc., 40 Waterview Drive, Shelton, CT 06484

Hubbell Premise Wiring, Inc., 40 Waterview Drive, Shelton, CT 06484

Shenzhen IH Optics Co., Ltd., G608-609, Baoanzhigu, Yintian Rd., Xixiang, Baoan Dist., Shenzhen, China 518126

Rayoptic Communication Co., Ltd, Floor 3, Building E, Dahong Science And Technology Park, No. B-10, Baihua Community, Guangming Street, Guangming New District, Shenzhen, China

HuNan Surfiber Technology Co., Ltd., 3rd Floor, Building A8, Desiqin Venture Street, No. 686 Yingxin Road, l Yuhua District, Changsha, Hunan, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: April 22, 2024.
Lisa Barton,
Secretary to the Commission.

[FR Doc. 2024-08940 Filed 4-25-24; 8:45 am]

BILLING CODE 7020-02-P